DEPARTMENT OF TRANSPORTATION

Bureau of Transportation Statistics

Federal Support for Local Decision-Making Public Listening Session

AGENCY: Bureau of Transportation Statistics (BTS), Office of the Assistant Secretary for Research and Technology (OST-R), U.S. Department of Transportation (DOT).

ACTION: Notice of open meeting.

SUMMARY: This notice announces a public meeting hosted by the Bureau of Transportation Statistics (BTS) in support of the Infrastructure Investment and Jobs Act (IIJA). The meeting will be a facilitated listening session that will document data and analytical challenges local decision-makers face making informed infrastructure investments. Based on feedback shared during the meeting, BTS will review the data and data analysis tools needed to assist local officials and will develop a road map to prioritize the Federal Government's support and funding requests for updating and developing the data assets.

DATES: The meeting will be held July 14, 2022, from 1 to 3 p.m. (Eastern Time).

ADDRESSES: This meeting will be conducted in an electronic format. Interested persons may register on the Agency website at https://www.bts.gov/local-outreach. Web conference information will be provided upon registration.

FOR FURTHER INFORMATION CONTACT: For specific questions related to the meeting, please contact Jordan Riddle, 202-366-8069.

SUPPLEMENTARY INFORMATION:

Public Participation: The meeting is open to the interested public, but the limited number of registrations will be available on a first come, first served basis. It is intended for a broad range of attendees, including stakeholders and representatives from States, political subdivisions of States, cities, metropolitan planning organizations, regional transportation planning organizations, and federally recognized Indian Tribes. Members of the public who wish to participate must register.

Accommodations: The U.S. Department of Transportation is committed to providing equal access to this meeting for all participants. If you need alternative formats or services because of a disability, such as sign language, interpretation, or other ancillary aids, please contact the person listed in the FOR FURTHER INFORMATION CONTACT section.

Issued in Washington, DC, on June 29, 2022.
Patricia Sie-Tseng Hu,
Director, Bureau of Transportation Statistics.

[FR Doc. 2022-14387 Filed 7-7-22; 8:45 am]

BILLING CODE 4910-9X-P